PRIVACY AND CIVIL LIBERTIES OVERSIGHT BOARD

[Notice-PCLOB-2015-01; Docket No. 2015-0001; Sequence No. 1]

Request for Public Comment on Activities Under Executive Order 12333

AGENCY: Privacy and Civil Liberties Oversight Board.

ACTION: Notice; Request for public comment.

SUMMARY: As announced at the Privacy and Civil Liberties Oversight Board's (PCLOB) public meeting on July 23, 2014, the PCLOB is examining counterterrorism activities conducted under the Executive Order pertaining to the United States Intelligence Activities and their implications for privacy and civil liberties. As such, the PCLOB seeks public input to inform the Board's examination of activities conducted under the Executive Order.

DATES: Written comments may be submitted at any time prior to the closing of the comment period at 11:59 p.m. Eastern Standard Time (EST) on June 16, 2015.

ADDRESSES: You may submit comments with the notice number PCLOB-2015-01 by the following methods:

• Regulations.gov: http://www.regulations.gov. Submit comments via the Federal eRulemaking portal by searching for “Notice PCLOB-2015-01”. Select the link “Comment Now” that corresponds with “Notice PCLOB-2015-01”. Follow the instructions provided at the “Comment Now” screen. Please include your name, company name (if any), and “Notice PCLOB-2015-01” on your attached document.

• Mail: General Services Administration, Regulatory Secretariat Division (MVCB), ATTN: Ms. Hada Flowers, 1800 F Street N.W., 2nd floor, Washington, DC 20405.

• Instructions: Please submit comments only and cite “Notice PCLOB-2015-01” in all correspondence related to this case. All comments received will be posted without change to http://www.regulations.gov, including any personal and/or business confidential information provided.

FOR FURTHER INFORMATION CONTACT: Sharon Bradford Franklin, Executive Director, 202-331-1986.

SUPPLEMENTARY INFORMATION: The PCLOB seeks public input to inform the Board's examination of activities conducted under Executive Order (E.O.) 12333—United States Intelligence Activities. Although the Board recognizes that much information about activities under E.O. 12333 is classified and/or not publicly available, the Board seeks comments regarding any concerns about counterterrorism activities conducted under E.O. 12333 based on the information that is currently unclassified and publicly available, as well as suggestions for questions the PCLOB should ask as part of its inquiry.

Dated: March 16, 2015.
Lynn Parker Dupree,
Acting General Counsel, Privacy and Civil Liberties Oversight Board.

[FR Doc. 2015-06537 Filed 3-20-15; 8:45 am]

BILLING CODE 6820-B3-P